DEPARTMENT OF LABOR

Employment and Training Administration

[TA-W-54,742]

Competitive Machining, Inc., Standish, MI; Notice of Termination of Investigation

Pursuant to section 221 of the Trade Act of 1974, as amended, an investigation was initiated on April 19, 2004, in response to a petition filed by a company official on behalf of workers at Competitive Machining, Inc., Standish, Michigan.

The petitioner has requested that the petition be withdrawn. Consequently, the investigation has been terminated.

Signed in Washington, DC this 24th day of May, 2004.
Richard Church,
Certifying Officer, Division of Trade Adjustment Assistance.

[FR Doc. 04-13370 Filed 6-14-04; 8:45 am]

BILLING CODE 4510-30-P